DEPARTMENT OF DEFENSE

Department of the Army

Intent To Grant an Exclusive License of U.S. Government-Owned Patents

AGENCY: Department of the Army, DoD.

ACTION: Notice.

SUMMARY: The Department of the Army hereby gives notice of its intent to grant an exclusive, royalty-bearing, revocable license to pending United States Provisional Patent Application 62/343,315, entitled, “Zika Virus Vaccine and Methods of Production” filed May 31, 2016 and an exclusive, royalty-bearing, revocable license to pending United States Provisional Patent Application 62/370,260, entitled, “Zika Vaccine and Methods of Preparation” filed August 3, 2016 to Sanofi Pasteur, Inc., having its principal place of business at 1 Discovery Drive, Swiftwater, PA 18370.

ADDRESSES: Commander, U.S. Army Medical Research and Materiel Command, ATTN: Command Judge Advocate, MCMR-JA, 504 Scott Street, Fort Detrick, MD 21702-5012.

FOR FURTHER INFORMATION CONTACT: For licensing issues, Mr. Barry Datlof, Office of Research & Technology Assessment, (301) 619-0033. For patent issues, Ms. Elizabeth Arwine, Patent Attorney, (301) 619-7808, both at telefax (301) 619-5034.

SUPPLEMENTARY INFORMATION: Anyone wishing to object to grant of this license can file written objections along with supporting evidence, if any, within 15 days from the date of this publication. Written objections are to be filed with the Command Judge Advocate (see ADDRESSES).

Brenda S. Bowen,
Army Federal Register Liaison Officer.

[FR Doc. 2016-29514 Filed 12-8-16; 8:45 am]

BILLING CODE 5001-03-P